DEPARTMENT OF AGRICULTURE

Food and Nutrition Service

7 CFR Parts 210 and 226

[FNS-2011-0029]

RIN 0584-AE18

CACFP Meal Pattern Revisions Related to the Healthy, Hunger-Free Kids Act of 2010; Correcting Amendments

AGENCY: Food and Nutrition Service (FNS), Department of Agriculture (USDA).

ACTION: Correcting amendments.

SUMMARY: On October 18, 2021, the Food and Nutrition Service revised rules concerning meal pattern tables for the National School Lunch Program and the Child and Adult Care Food Program. The document contained incorrect table entries. This document corrects the final regulations.

DATES: Effective January 27, 2022 and applicable beginning October 1, 2021.

FOR FURTHER INFORMATION CONTACT: Alice McKenney, Branch Chief, Child Nutrition Division, 703-305-2590.

SUPPLEMENTARY INFORMATION: This is a correcting amendment to the Food and Nutrition Service's (FNS's) technical amendments published October 18, 2021 (86 FR 57544). The technical amendments inadvertently omitted a distinct value for ready-to-eat cereal requirements in two of the tables and misprinted the amount of yogurt required in one of the tables. This amendment also corrects a typographical error related to the amount of milk required in one of the tables. Prior to the technical amendment published on October 18, 2021, both infant cereal and ready-to-eat breakfast cereal requirements were presented in tablespoons; 0-4 tablespoons of either type of cereal were required for infants when cereal was served as a snack. In Table 6 to 7 CFR 210.10(o)(4)(ii) for Infant Snack Meal Pattern and Table 1 to 7 CFR 226.20(b)(5) for Infant Meal Patterns, the correct conversion of 0-4 tablespoons of ready-to-eat breakfast cereal to ounces is 0 to ¼ ounce equivalents, not 0 to ½ ounce equivalents as was erroneously printed in the October 18, 2021, amendment. In Table 4 to 7 CFR 226.20(c)(3) for Child and Adult Care Food Program Snack, four of the columns (Ages 1-2, 3-5, 6-12, and 13-18) included misprints for yogurt amounts; “2 ounces or ½ cup” is being corrected to “2 ounces or ¼ cup” and “4 ounces or ¾ cup” is being corrected to “4 ounces or ½ cup”. In the same table, the amount of milk for ages 3-5 is being corrected from 6 fluid ounces to 4 fluid ounces. The reference to 6 fluid ounces was an error when converting ½ cup to fluid ounces in the Child Nutrition Programs: Flexibilities for Milk, Whole Grains, and Sodium Requirements (83 FR 63775 (Dec. 12, 2018)) which inadvertently carried forward into the October 18, 2021, technical correction.

List of Subjects

7 CFR Part 210

Grant programs—education, Grant programs—health, Infants and children, Nutrition, Penalties, Reporting and recordkeeping requirements, School breakfast and lunch programs, Surplus agricultural commodities.

7 CFR Part 226

Accounting, Aged, American Indians, Day care, Food assistance programs, Grant programs, Grant programs—health, Individuals with disabilities, Infants and children, Intergovernmental relations, Loan programs, Reporting and recordkeeping requirements, Surplus agricultural commodities.

Accordingly, FNS amends 7 CFR parts 210 and 226 by making the following correcting amendments:

PART 210—NATIONAL SCHOOL LUNCH PROGRAM

1. The authority citation for part 210 continues to read as follows:

Authority: 42 U.S.C. 1751-1760, 1779.

2. Amend § 210.10 by revising table 6 to paragraph (o)(4)(ii) to read as follows:

§ 210.10 Meal requirements for lunches and requirements for afterschool snacks.

* * * * *

(o) * * *

(4) * * *

(ii) * * *

Table 6 to Paragraph (o)(4)(ii)—Infant Snack Meal Pattern
Birth through 5 months | 6 through 11 months
4-6 fluid ounces breastmilk ¹ or formula ² | 2-4 fluid ounces breastmilk ¹ or formula; ² and
| 0-½ ounce equivalent bread; ³ ⁴ or
| 0-¼ ounce equivalent crackers; ³ ⁴ or
| 0-½ ounce equivalent infant cereal; ² ⁴ or
| 0-¼ ounce equivalent ready-to-eat breakfast cereal; ³ ⁴ ⁵ ⁶ and
| 0-2 tablespoons vegetable or fruit, or a combination of both.⁶ ⁷
¹ Breastmilk or formula, or portions of both, must be served; however, it is recommended that breastmilk be served in place of formula from birth through 11 months. For some breastfed infants who regularly consume less than the minimum amount of breastmilk per feeding, a serving of less than the minimum amount of breastmilk may be offered, with additional breastmilk offered at a later time if the infant will consume more.
² Infant formula and dry infant cereal must be iron-fortified.
³ A serving of grains must be whole grain-rich, enriched meal, or enriched flour.
⁴ Refer to FNS guidance for additional information on crediting different types of grains.
⁵ Breakfast cereals must contain no more than 6 grams of sugar per dry ounce (no more than 21.2 grams sucrose and other sugars per 100 grams of dry cereal).
⁶ A serving of this component is required when the infant is developmentally ready to accept it.
⁷ Fruit and vegetable juices must not be served.

* * * * *

PART 226—CHILD AND ADULT CARE FOOD PROGRAM

3. The authority citation for part 226 continues to read as follows:

Authority: Secs. 9, 11, 14, 16, and 17, Richard B. Russell National School Lunch Act, as amended (42 U.S.C. 1758, 1759a, 1762a, 1765 and 1766).

4. Amend § 226.20 by revising table 1 to paragraph (b)(5) and table 4 to paragraph (c)(3) to read as follows:

§ 226.20 Requirements for meals.

* * * * *

(b) * * *

(5) * * *

Table 1 to Paragraph (b)(5)—Infant Meal Patterns
Infants | Birth through 5 months | 6 through 11 months
Breakfast, Lunch, or Supper | 4-6 fluid ounces breastmilk ¹ or formula ² | 6-8 fluid ounces breastmilk ¹ or formula; ² and
|  | 0-½ ounce equivalent infant cereal; ² ³ or
|  | 0-4 tablespoons meat, fish, poultry, whole egg, cooked dry beans, or cooked dry peas; or
|  | 0-2 ounces of cheese; or
|  | 0-4 ounces (volume) of cottage cheese; or
|  | 0-4 ounces or ½ cup of yogurt; ⁴ or a combination of the above; ⁵ and
|  | 0-2 tablespoons vegetable or fruit, or a combination of both.⁵ ⁶
Snack | 4-6 fluid ounces breastmilk ¹ or formula ² | 2-4 fluid ounces breastmilk ¹ or formula; ² and
|  | 0-½ ounce equivalent bread; ³ ⁷ or
|  | 0-¼ ounce equivalent crackers; ³ ⁷ or
|  | 0-½ ounce equivalent infant cereal; ² ³ or
|  | 0-¼ ounce equivalent ready-to-eat breakfast cereal; ³ ⁵ ⁷ ⁸ and
|  | 0-2 tablespoons vegetable or fruit, or a combination of both.⁵ ⁶
¹ Breastmilk or formula, or portions of both, must be served; however, it is recommended that breastmilk be served in place of formula from birth through 11 months. For some breastfed infants who regularly consume less than the minimum amount of breastmilk per feeding, a serving of less than the minimum amount of breastmilk may be offered, with additional breastmilk offered at a later time if the infant will consume more.
² Infant formula and dry infant cereal must be iron-fortified.
³ Refer to FNS guidance for additional information on crediting different types of grains.
⁴ Yogurt must contain no more than 23 grams of total sugars per 6 ounces.
⁵ A serving of this component is required when the infant is developmentally ready to accept it.
⁶ Fruit and vegetable juices must not be served.
⁷ A serving of grains must be whole grain-rich, enriched meal, or enriched flour.
⁸ Breakfast cereals must contain no more than 6 grams of sugar per dry ounce (no more than 21.2 grams sucrose and other sugars per 100 grams of dry cereal).

(c) * * *

(3) * * *

Table 4 to Paragraph (c)(3)—Child and Adult Care Food Program Snack
[Select the two of the five components for a reimbursable meal]
Food components and food items ¹ | Minimum quantities: Ages 1-2 | Minimum quantities: Ages 3-5 | Minimum quantities: Ages 6-12 | Minimum quantities: Ages 13-18 ² (at-risk afterschool programs and emergency shelters) | Minimum quantities: Adult participants
Fluid Milk ³ | 4 fluid ounces | 4 fluid ounces | 8 fluid ounces | 8 fluid ounces | 8 fluid ounces.
Meat/meat alternates (edible portion as served):
Lean meat, poultry, or fish | ½ ounce | ½ ounce | 1 ounce | 1 ounce | 1 ounce.
Tofu, soy products, or alternate protein products ⁴ | ½ ounce | ½ ounce | 1 ounce | 1 ounce | 1 ounce.
Cheese | ½ ounce | ½ ounce | 1 ounce | 1 ounce | 1 ounce.
Large egg | ½ | ½ | ½ | ½ | ½.
Cooked dry beans or peas | ⅛ cup | ⅛ cup | ¼ cup | ¼ cup | ¼ cup.
Peanut butter or soy nut butter or other nut or seed butters | 1 Tbsp | 1 Tbsp | 2 Tbsp | 2 Tbsp | 2 Tbsp.
Yogurt, plain or flavored unsweetened or sweetened ⁵ | 2 ounces or ¼ cup | 2 ounces or ¼ cup | 4 ounces or ½ cup | 4 ounces or ½ cup | 4 ounces or ½ cup.
Peanuts, soy nuts, tree nuts, or seeds | ½ ounce | ½ ounce | 1 ounce | 1 ounce | 1 ounce.
Vegetables ⁶ | ½ cup | ½ cup | ¾ cup | ¾ cup | ½ cup.
Fruits ⁶ | ½ cup | ½ cup | ¾ cup | ¾ cup | ½ cup.
Grains (oz. eq.) ⁷ ⁸ ⁹ | ½ ounce equivalent | ½ ounce equivalent | 1 ounce equivalent | 1 ounce equivalent | 1 ounce equivalent.
Endnotes:
¹ Select two of the five components for a reimbursable snack. Only one of the two components may be a beverage.
² Larger portion sizes than specified may need to be served to children 13 through 18 years old to meet their nutritional needs.
³ Must be unflavored whole milk for children age one. Must be unflavored low-fat (1 percent fat or less) or unflavored fat-free (skim) milk for children two through five years old. Must be unflavored low-fat (1 percent fat or less) or unflavored or flavored fat-free (skim) milk for children 6 years old and older and adults. For adult participants, 6 ounces (weight) or ¾ cup (volume) of yogurt may be used to meet the equivalent of 8 ounces of fluid milk once per day when yogurt is not served as a meat alternate in the same meal.
⁴ Alternate protein products must meet the requirements in appendix A to this part.
⁵ Yogurt must contain no more than 23 grams of total sugars per 6 ounces.
⁶ Pasteurized full-strength juice may only be used to meet the vegetable or fruit requirement at one meal, including snack, per day.
⁷ At least one serving per day, across all eating occasions, must be whole grain-rich. Grain-based desserts do not count towards the grains requirement.
⁸ Refer to FNS guidance for additional information on crediting different types of grains.
⁹ Breakfast cereals must contain no more than 6 grams of sugar per dry ounce (no more than 21.2 grams sucrose and other sugars per 100 grams of dry cereal).

* * * * *

Cynthia Long,
Administrator, Food and Nutrition Service.

[FR Doc. 2022-01582 Filed 1-26-22; 8:45 am]

BILLING CODE 3410-30-P